ENVIRONMENTAL PROTECTION AGENCY

[FRL-9931-99-REGION 4; CERCLA-04-2015-3751]

Pender Plating Site; Burgaw, Pender County, North Carolina; Notice of Settlement

AGENCY: Environmental Protection Agency (EPA).

ACTION: Notice of settlement.

SUMMARY: Under 122(h) of the Comprehensive Environmental Response, Compensation and Liability Act (CERCLA), the United States Environmental Protection Agency has entered into a settlement with Jeffrey Jones Properties, LLC concerning the Pender Plating Superfund Site located in Burgaw, Pender County, North Carolina. The settlement addresses costs from a time-critical Removal performed by the EPA at the Site.

DATES: The Agency will consider public comments on the settlement until September 8, 2015. The Agency will consider all comments received and may modify or withdraw its consent to the settlement if comments received disclose facts or considerations which indicate that the amended settlement is inappropriate, improper, or inadequate.

ADDRESSES: Copies of the settlement are available from the Agency by contacting Ms. Paula V. Painter, Program Analyst, using the contact information provided in this notice. Comments may also be submitted by referencing the Site's name through one of the following methods:

• Internet: www.epa.gov/region4/superfund/programs/enforcement/enforcement.html.

• U.S. Mail: U.S. Environmental Protection Agency, Superfund Division, Attn: Paula V. Painter, 61 Forsyth Street SW., Atlanta, Georgia 30303.

• Email: Painter.Paula@epa.gov.

FOR FURTHER INFORMATION CONTACT: Paula V. Painter at 404/562-8887.

Dated: June 30, 2015.
Anita L. Davis,
Chief, Enforcement and Community Engagement Branch, Superfund Division.

[FR Doc. 2015-19350 Filed 8-5-15; 8:45 am]

BILLING CODE 6560-50-P